DEPARTMENT OF JUSTICE

[AAG/A Order No. 015-2007]

Environmental and Natural Resources Division; Privacy Act of 1974; Removal of a System of Records Notice

Pursuant to the provisions of the Privacy Act of 1974 (5 U.S.C. 552a), the Department of Justice (Justice), Environmental and Natural Resources Division (ENRD), is removing a published notice of a Privacy Act system of records entitled “Appraisers, Approved Attorneys, Abstractors and Title Companies Files Database System, Justice/ENRD-001.” The system notice was published in the Federal Register on February 23, 2000, at 65 FR 8989; and a partial modification was published on October 20, 2005, at 70 FR 61159.

The system was comprised of a listing of practitioners deemed qualified to perform appraisals and provide title evidence in connection with land acquisitions by the United States, and was originally created as a procedural aid in connection with title reviews mandated by 40 U.S.C. 255 (now 40 U.S.C. 3111). More specifically, it was created pursuant to the “Standards for the Preparation of Title Evidence in Land Acquisitions by the United States” [“Standards”]. Maintaining the nationwide listing proved too unmanageable, however, and the ENRD discontinued its use when it replaced the old “Standards” with the new “Title Standards 2001,” which created minimum national standards for use by local government agencies in approving providers of title evidence.

The database that was the subject of the Privacy Act notice was deleted by ENRD users from their Personal Computers (PCs) prior to 2002, and then was completely destroyed by ENRD's Office of Information Technology, in accordance with Departmental policy, when all Division PC's were replaced in 2002.

Therefore, the notice of “Appraisers, Approved Attorneys, Abstractors and Title Companies Files Database System” is removed from the Department's compilation of Privacy Act systems of records notices, effective on the date of publication of this notice.

Dated: May 22, 2007.
Lee J. Lofthus,
Assistant Attorney General for Administration.

[FR Doc. E7-10524 Filed 5-31-07; 8:45 am]

BILLING CODE 4410-15-P